DEPARTMENT OF LABOR

Employment and Training Administration

[TA-W-63,999]

Rahmann Belting and Industrial Rubber, Gastonia, NC; Notice of Termination of Investigation

Pursuant to Section 221 of the Trade Act of 1974, as amended, an investigation was initiated on September 8, 2008, in response to a worker petition filed on behalf of workers at Rahmann Belting and Industrial Rubber, Gastonia, North Carolina

The petitioners have requested that the petition be withdrawn. Consequently, the investigation has been terminated.

Signed at Washington, DC this 1st day of October 2008.
Elliott S. Kushner,
Certifying Officer, Division of Trade Adjustment Assistance.

[FR Doc. E8-23848 Filed 10-7-08; 8:45 am]

BILLING CODE 4510-FN-P